DEPARTMENT OF EDUCATION

[CFDA Nos.: 84.184H, 84.184K, 84.184M, 84.184N]

Office of Elementary and Secondary Education; Safe and Drug-Free Schools and Communities National Programs; Combined Notice Inviting Applications for New Awards for Fiscal Year 2000

SUMMARY: The Secretary invites applications for new awards for fiscal year (FY) 2000 under four direct grant competitions supported by Safe and Drug-Free Schools and Communities Act (SDFSCA) National Programs.

PURPOSE OF PROGRAMS: The National Programs portion of the SDFSCA supports the development of innovative programs that (1) demonstrate effective new methods of ensuring safe and drug-free schools, colleges, and communities, and (2) provide models or proven effective practices that will assist schools and communities around the Nation to improve their programs funded under the State Grants portion of the SDFSCA.

APPLICATIONS AVAILABLE: April 6, 2000.

Applicable Regulations

The Education Department General Administrative Regulations (EDGAR) in 34 CFR parts 74, 75, 77, 79, 80, 81, 82, 85, 86 (note: The regulations in 34 CFR part 86 apply to institutions of higher education only), 97, 98, and 99; and (b) the notices of final priorities, definitions, eligible applicants, and selection criteria, as published elsewhere in this issue of the Federal Register apply to these competitions.

For Applications or Information Contact: Safe and Drug-Free Schools Program, 400 Maryland Avenue, SW, 3E-316, Washington, DC 20202-6123. Telephone: (202) 260-3954. By facsimile (202) 260-7767. Internet: http://www.ed.gov/offices/OESE/SDFS. If you use a telecommunications device for the deaf (TDD), you may call the Federal Information Relay Service (FIRS) at (800) 877-8339. However, the Department is not able to reproduce in an alternate format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use the PDF, you must have the Adobe Acrobat Reader Program with Search, which is available free at either of the previous sites. If you have questions about using the PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 7131.

Dated: March 31, 2000.
Michael Cohen,
Assistant Secretary for Elementary and Secondary Education.

CFDA No. and name | Range of awards | Estimated average size of awards | Estimated number of awards | Estimated available funds | Project period | Deadline for receipt of applications | Deadline for intergovern-mental review
84.184H Grant Competition to Prevent High-Risk Drinking and Violent Behavior Among College Students | $125,000 to $225,000 | $175,000 | 8-12 | $2,000,000 | 27 months | May 12, 2000 | June 12, 2000.
84.184K Middle School Drug Prevention and School Safety Program Coordinators Grant Competition | $250,000 to $400,000 | 325,000 | 140 | 45,000,000 | Up to 36 months | May 12, 2000 | June 12, 2000.
84.184M Effective Alternative Strategies: Grant Competition to Reduce Student Suspensions and Expulsions and Ensure Educational Progress of Students who are Suspended or Expelled | $250,000 to $750,000 | 500,000 | 20 | 10,000,000 | Up to 36 months | May 22, 2000 | June 22, 2000.
84.184N Alcohol and Other Drug Prevention Models on College Campuses Grant Competition | $50,000 to $90,000 | 70,000 | Up to 10 | 600,000 | 12 months | May 12, 2000 | June 12, 2000.
Note: Range of awards, average size of awards, number of awards and available funding in this notice are estimates only. The Department is not bound by any estimates in this notice. Funding estimates for competition 84.184H represent funding for both the first and second years of the project period. Projects funded under competition 84.184H will not be subject to approval of continuation or to the availability of future years' funds. Funding for 84.184K and 84.184M represent the first year of the project period only. Funding for the second and third years of projects under competitions 84.184M and 84.184K are subject both to the availability of future years' funds and the approval of continuation (see 34 CFR 75.253). ALL APPLICATIONS MUST BE RECEIVED ON OR BEFORE 4:30 P.M. EASTERN TIME ON THE DEADLINE DATE. APPLICATIONS RECEIVED AFTER THAT TIME WILL NOT BE ELIGIBLE FOR FUNDING. POSTMARKED DATES WILL NOT BE ACCEPTED.

[FR Doc. 00-8449 Filed 4-5-00; 8:45 am]

BILLING CODE 4000-01-P